DEPARTMENT OF COMMERCE

National Oceanic and Atmospheric Administration

50 CFR Part 622

[Docket No. 140818679-5356-02; RTID 0648-XE462]

Fisheries of the Caribbean, Gulf of Mexico, and South Atlantic; Reef Fish Fishery of the Gulf of Mexico; Reopening of the Red Snapper Recreational For-Hire Fishing Season in the Gulf of Mexico

AGENCY: National Marine Fisheries Service (NMFS), National Oceanic and Atmospheric Administration (NOAA), Commerce.

ACTION: Temporary rule; reopening.

SUMMARY: NMFS is reopening the recreational fishing season for the Federal charter vessel/headboat (for-hire) component for red snapper in the exclusive economic zone (EEZ) of the Gulf of Mexico (Gulf) through this temporary rule. The most recent landings data for the red snapper for-hire component in the Gulf indicates the component annual catch target (ACT) for the 2024 fishing year has not yet been reached. Therefore, the red snapper recreational for-hire component in the Gulf EEZ will reopen to allow harvest of the remaining for-hire component ACT. NMFS intends this action to increase benefits to for-hire fishermen while protecting the Gulf red snapper resource by continuing to constrain harvest to the component quota.

DATES: This temporary rule is effective from 12:01 a.m., local time, November 18, 2024, through 12:01 a.m., local time, on January 1, 2025.

FOR FURTHER INFORMATION CONTACT: Frank Helies, NMFS Southeast Regional Office, telephone: 727-551-5719, email: frank.helies@noaa.gov.

SUPPLEMENTARY INFORMATION: The Gulf reef fish fishery, which includes red snapper, is managed under the Fishery Management Plan for the Reef Fish Resources of the Gulf of Mexico (FMP). The FMP was prepared by the Gulf of Mexico Fishery Management Council, approved by the Secretary of Commerce, and is implemented by NMFS under the authority of the Magnuson-Stevens Fishery Conservation and Management Act (Magnuson-Stevens Act) by regulations at 50 CFR part 622.

The final rule implementing Amendment 40 to the FMP established two components within the recreational sector fishing for Gulf red snapper: the private angling component and the Federal for-hire component (80 FR 22422, April 22, 2015). Amendment 40 also allocated the red snapper recreational annual catch limit (ACL; recreational quota) between the components and established separate seasonal closures for the two components. The Federal for-hire component's red snapper ACT is 9 percent below the for-hire component quota (87 FR 74014, December 2, 2022; 50 CFR 622.41(q)(2)(iii)(B)).

The red snapper for-hire component seasonal closure is projected using the component's ACT to reduce the likelihood of the harvest exceeding the component quota and the total recreational quota. The Federal for-hire component ACT for red snapper in the Gulf EEZ is 3,076,322 pounds (lb)(1,395,396 kilograms (kg)), round weight (50 CFR 622.41(q)(2)(iii)(B)).

NMFS previously determined that the 2024 Federal Gulf red snapper for-hire fishing season would be 88 days based on when landings were expected to reach the component ACT. NMFS made this determination based on catch rates from the 2023 fishing year. For details about the projection for 2024, see https://www.fisheries.noaa.gov/southeast/sustainable-fisheries/gulf-mexico-recreational-red-snapper-management. Based on this projection, NMFS announced in the Federal Register that the 2024 recreational season for the Federal for-hire component would begin at 12:01 a.m., local time, on June 1, 2024, and close at 12:01 a.m., local time, on August 28, 2024 (89 FR 42815, May 16, 2024).

However, the most recent landings data for the Gulf red snapper for-hire component indicate that approximately 882,612 lb (400,346 kg), round weight, of the for-hire component ACT has not been harvested. NMFS projects that the remaining ACT will allow for harvest through the remainder of the current 2024 fishing year.

Therefore, in accordance with 50 CFR 622.8(c), NMFS reopens the Gulf red snapper Federal for-hire component for remainder of the 2024 fishing year to allow for harvest of the component ACT. The recreational season for the Federal for-hire component will reopen at 12:01 a.m., local time, November 18, 2024, and close at 12:01 a.m., local time, on January 1, 2025. When the for-hire component closes again on January 1, 2025, the bag and possession limits for red snapper for Federal for-hire vessels are zero. When the Federal for-hire component is closed, these bag and possession limits apply in the Gulf on board a vessel for which a valid Federal for-hire permit for Gulf reef fish has been issued, without regard to where such species were harvested, i.e., in state or Federal waters. In addition, a person aboard a vessel that has been issued a charter vessel/headboat permit for Gulf reef fish any time during the fishing year may not harvest or possess red snapper in or from the Gulf EEZ when the Federal charter vessel/headboat component is closed.

Classification

NMFS issues this action pursuant to section 305(d) of the Magnuson-Stevens Act. This action is taken under 50 CFR 622.8(c), which was issued pursuant to section 304(b) of the Magnuson-Stevens Act, and is exempt from review under Executive Order 12866, and other applicable laws.

Pursuant to 5 U.S.C. 553(b)(B), there is good cause to waive prior notice and an opportunity for public comment on this action, as notice and comment is unnecessary and contrary to the public interest. Such procedures are unnecessary because the regulation at 50 CFR 622.8(c) has already been subject to notice and comment, and all that remains is to notify the public that additional harvest is available under the established Federal for-hire component ACT, and therefore, the Federal for-hire component for Gulf red snapper will reopen. Such procedures are contrary to the public interest because of need to immediately implement this action to allow persons on board Federal for-hire vessels the opportunity to harvest the remainder of the Federal for-hire component ACT. Prior notice and opportunity for public comment would delay the re-opening and reduce the number available fishing days.

For the aforementioned reasons, there is also good cause to waive the 30-day delay in the effectiveness of this action under 5 U.S.C. 553(d)(3).

Authority: 16 U.S.C. 1801 et seq.

Dated: November 13, 2024.
Karen H. Abrams,
Acting Director, Office of Sustainable Fisheries, National Marine Fisheries Service.

[FR Doc. 2024-26828 Filed 11-13-24; 4:15 pm]

BILLING CODE 3510-22-P